DEPARTMENT OF HEALTH AND HUMAN SERVICES

Health Resources and Services Administration

Agency Information Collection Activities: Submission to OMB for Review and Approval; Public Comment Request; Evidence Based Telehealth Network Program Measures

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than December 29, 2023.

ADDRESSES: Written comments and recommendations for the proposed information collection should be sent within 30 days of publication of this notice to www.reginfo.gov/public/do/PRAMain. Find this information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Evidence Based Telehealth Network Program Measures, OMB No. 0906-0043—Revision.

Abstract: This ICR is for a revision of a currently approved information collection of measures for the Office for the Advancement of Telehealth's (OAT) Evidence Based Telehealth Network Program, under which OAT administers cooperative agreements in accordance with section 330I of the Public Health Service Act (42 U.S.C. 254c-14), as amended. The purpose of this program is to fund evidence-based projects that utilize telehealth technologies through telehealth networks to expand access to, and improve access to and the quality of, health care services. This program will work to help assess the effectiveness of evidence-based practices with the use of telehealth for patients, providers, and payers.

In the Evidence-Based Telehealth Network Program Report, the adjusted data collection instrument includes the addition, removal, and revision of measures, with 27 total data elements addressing patient encounter information. The current measures focus on behavioral health and the proposed adjusted measures allow for the inclusion of broader health care services and expanded outcome measures. Five data elements were updated to specify data collection that allows for deeper understanding of outcomes related to socioeconomic indicators. The estimated burden for the Evidence-Based Telehealth Network Program Report has decreased since the data collection frequency is changing from monthly to quarterly. In addition, the information collected from grantees in the Performance Improvement and Measurement System more closely aligns measures with the Notice of Funding Opportunity and will assist in clarifying program measures and impact. These adjustments allow OAT to gain a more thorough understanding of how to utilize telehealth technologies through telehealth to improve access to, and improve the quality of, health care services.

A 60-day notice published in the Federal Register on August 18, 2023, 88 FR 56640-41. There were no public comments, but OAT made minor adjustments to the numbering, wording, and some categories on the Rural Telehealth Research Center Data Dictionary and accompanying Direct-to-Consumer Telehealth Evidence Collection tool to increase ease of use.

Need and Proposed Use of the Information: The measures will enable HRSA and OAT to capture data that illustrate the impact and scope of federal funding along with assessing these efforts. The measures cover the principal topic areas of interest to OAT, including: (1) population demographics, (2) access to health care, (3) cost savings and cost-effectiveness, and (4) clinical outcomes.

Likely Respondents: The likely respondents are award recipients of the Evidence Based Telehealth Network Program.

Burden Statement: Burden in this context means the time expended by persons to generate, maintain, retain, disclose, or provide the information requested. This includes: the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total estimated annualized burden hours: instrument name | Number of respondents | Number of responses per respondent | Total responses | Average burden per response (in hours) | Total burden hours
Evidence-Based Telehealth Network Program Report | 11 | 4 | 44 | 31 | 1,364
Telehealth Performance Measurement Report | 11 | 1 | 11 | 5 | 55
Total | * 11 |  | 55 |  | 1,419
* HRSA estimates 11 unique respondents, each completing the two forms.

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-26248 Filed 11-28-23; 8:45 am]

BILLING CODE 4165-15-P